DEPARTMENT OF LABOR

Employment and Training Administration

[TA-W-71,712]

Automodular Assemblies of Ohio, Inc., Including On-Site Leased Workers From ADP Totalsource I, Inc., Lordstown, OH; Amended Certification Regarding Eligibility To Apply for Worker Adjustment Assistance

In accordance with section 223 of the Trade Act of 1974, as amended (“Act”), 19 U.S.C. 2273, the Department of Labor issued a Certification of Eligibility To apply for Worker Adjustment Assistance on March 23, 2010, applicable to workers of Automodular Assemblies of Ohio, Inc., Lordstown, Ohio. The notice was published in the Federal Register April 23, 2010 (75 FR 21357).

At the request of the State Agency, the Department reviewed the certification for workers of the subject firm. The workers are engaged in activities related to the assembly of components for automobiles.

The company reports that workers leased from ADP TotalSource I, Inc. were employed on-site at the Lordstown, Ohio location of Automodular Assemblies. The Department has determined that these workers were sufficiently under the control of the subject firm to be considered leased workers.

Based on these findings, the Department is amending this certification to include workers leased from ADP TotalSource I, Inc. working on-site at the Lordstown, Ohio location of Automodular Assemblies.

The amended notice applicable to TA-W-71,712 is hereby issued as follows:

All workers of Automodular Assemblies of Ohio, Inc., including on-site leased workers from ADP TotalSource I, Inc., Lordstown, Ohio, who became totally or partially separated from employment on or after July 16, 2008, through March 23, 2012, and all workers in the group threatened with total or partial separation from employment on the date of certification through two years from the date of certification, are eligible to apply for adjustment assistance under Chapter 2 of Title II of the Trade Act of 1974, as amended.

Signed in Washington, DC, this 3rd day of June, 2010.
Michael W. Jaffe,
Certifying Officer, Division of Trade Adjustment Assistance.

[FR Doc. 2010-14461 Filed 6-15-10; 8:45 am]

BILLING CODE 4510-FN-P